FEDERAL COMMUNICATIONS COMMISSION

47 CFR Part 76

[CS Docket Nos. 00-96 and 99-363; FCC 00-417]

Implementation of the Satellite Home Viewer Improvement Act of 1999: Broadcast Signal Carriage Issues/Retransmission Consent Issues

AGENCY: Federal Communications Commission.

ACTION: Final rule; announcement of effective date.

SUMMARY: This document announces the effective date of certain sections of the Commission's broadcast signal carriage rule, 47 CFR 76.66, which requires satellite carriers, by January 1, 2002, to carry all local television stations seeking carriage in any market in which the carriers provide local-into-local service. Certain sections of the rule contained information collection requirements that required the approval of the Office of Management and Budget (“OMB”) before they could become effective. Those sections of the broadcast signal carriage rule have been approved by OMB and become effective on June 29, 2001.

DATES: The amendments to 47 CFR 76.66(c)(3), (c)(5), (d), and (m), published at 66 FR 7410 (Jan. 23, 2001), become effective on June 29, 2001.

FOR FURTHER INFORMATION CONTACT: Eloise Gore of the Consumer Protection and Competition Division, Cable Services Bureau at (202) 418-7200, TTY (202) 418-7172, or via Internet at egore@fcc.gov.

SUPPLEMENTARY INFORMATION: On November 29, 2000, the Commission adopted a Report and Order, in CS Docket Nos. 00-96 and 99-363, that implements section 338 of the Communications Act of 1934, adopted as part of the Satellite Home Viewer Improvement Act of 1999 (“SHVIA”). A summary of the Report and Order was published in the Federal Register at 66 FR 7410 (Jan. 23, 2001). The Order adopted a rule, 47 CFR 76.66 (Satellite Broadcast Signal Carriage rule), requiring satellite carriers, by January 1, 2002, to carry all local television stations seeking carriage in any market in which they provide local-into-local service. The rule covers a wide range of topics including: carriage obligations and definitions, market definitions, delivery of a good quality signal, duplicating signals, channel positioning, content to be carried, material degradation, compensation for carriage, and remedies for carriage violations. Sections 76.66(c)(3), (c)(5), (d), and (m) of the rule, however, contained information collection requirements that required OMB approval before they could become effective. OMB approved the information collection requirements on June 7, 2001. See OMB No. 3060-0980. Accordingly, §§ 76.66(c)(3), (c)(5), (d), and (m) of the rule become effective on June 29, 2001. This document constitutes publication of the effective date of those sections.

List of Subjects in 47 CFR Part 76

Cable television, Multichannel video and cable television service.

Federal Communications Commission.
Magalie Roman Salas,
Secretary.

[FR Doc. 01-16517 Filed 6-28-01; 8:45 am]

BILLING CODE 6712-01-U